ENVIRONMENTAL PROTECTION AGENCY

40 CFR Part 52

[EPA-R03-OAR-2011-0511; FRL-9462-6]

Approval and Promulgation of Air Quality Implementation Plans; West Virginia; Revised Motor Vehicle Emission Budgets for the Charleston, Huntington, Parkersburg, Weirton, and Wheeling 8-Hour Ozone Maintenance Areas

AGENCY: Environmental Protection Agency (EPA).

ACTION: Direct final rule.

SUMMARY: EPA is taking direct final action to approve a State Implementation Plan (SIP) revision submitted by the State of West Virginia. The revision amends the 8-hour ozone maintenance plans for the Charleston, Huntington, Parkersburg, Weirton, and Wheeling 8-hour ozone maintenance areas. This revision amends the maintenance plans' 2009 and 2018 motor vehicle emissions budgets (MVEBs) by reallocating a portion of the plans' safety margins which results in an increase in the MVEBs. The revised plans continue to demonstrate maintenance of the 8-hour national ambient air quality standard (NAAQS) for ozone. EPA is approving this SIP revision to the West Virginia maintenance plans for the Charleston, Huntington, Parkersburg, Weirton, and Wheeling 8-hour ozone maintenance areas in accordance with the requirements of the Clean Air Act (CAA).

DATES: This rule is effective on November 14, 2011 without further notice, unless EPA receives adverse written comment by October 17, 2011. If EPA receives such comments, it will publish a timely withdrawal of the direct final rule in the Federal Register and inform the public that the rule will not take effect.

ADDRESSES: Submit your comments, identified by Docket ID Number EPA-R03-OAR-2011-0511 by one of the following methods:

A. http://www.regulations.gov. Follow the on-line instructions for submitting comments.

B. E-mail: fernandez.cristina@epa.gov.

C. Mail: EPA-R03-OAR-2011-0511, Cristina Fernandez, Associate Director, Office of Air Program Planning, Mailcode 3AP30, U.S. Environmental Protection Agency, Region III, 1650 Arch Street, Philadelphia, Pennsylvania 19103.

D. Hand Delivery: At the previously-listed EPA Region III address. Such deliveries are only accepted during the Docket's normal hours of operation, and special arrangements should be made for deliveries of boxed information.

Instructions: Direct your comments to Docket ID No. EPA-R03-OAR-2011-0511. EPA's policy is that all comments received will be included in the public docket without change, and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the electronic docket are listed in the http://www.regulations.gov index. Although listed in the index, some information is not publicly available, i.e., CBI or other information whose disclosure is restricted by statute. Certain other material, such as copyrighted material, is not placed on the Internet and will be publicly available only in hard copy form. Publicly available docket materials are available either electronically in http://www.regulations.gov or in hard copy during normal business hours at the Air Protection Division, U.S. Environmental Protection Agency, Region III, 1650 Arch Street, Philadelphia, Pennsylvania 19103. Copies of the State submittal are available at the West Virginia Department of Environmental Protection, Division of Air Quality, 601 57th Street, SE., Charleston, West Virginia 25304.

FOR FURTHER INFORMATION CONTACT: Martin Kotsch, (215) 814-3335, or by e-mail at kotsch.martin@epa.gov.

SUPPLEMENTARY INFORMATION: Throughout this document whenever “we,” “us,” or “our” is used, we mean EPA.

Table of Contents

I. Background

II. Summary of West Virginia's SIP Revision and EPA's Review

III. Final Action

IV. Statutory and Executive Order Reviews

I. Background

On July 11, 2006 (71 FR 39001), EPA redesignated the Charleston area of West Virginia to attainment for the 8-hour ozone NAAQS. For the Charleston area, the redesignation included approval of an 8-hour ozone maintenance plan, which identifies on-road MVEBs for volatile organic compounds (VOCs) and nitrogen oxides (NOX), which are ozone precursors, which are then used for transportation planning and conformity purposes. Subsequently, on January 14, 2008 (73 FR 2156), EPA approved a revision to the Charleston maintenance plan mobile budgets.

On September 15, 2006 (71 FR 54421), EPA redesignated the Huntington-Ashland area of West Virginia to attainment for the 8-hour ozone NAAQS. For the Huntington area, the redesignation included approval of an 8-hour ozone maintenance plan, which identifies on-road MVEBs for VOCs and NOX, which are ozone precursors, which are then used for transportation planning and conformity purposes.

On May 8, 2007 (72 FR 25967), EPA redesignated the Parkersburg-Marietta area of West Virginia to attainment for the 8-hour ozone NAAQS. For the Parkersburg area, the redesignation included approval of an 8-hour ozone maintenance plan, which identifies on-road MVEBs for VOCs and NOX, which are ozone precursors, which are then used for transportation planning and conformity purposes. Subsequently, on October 30, 2008 (73 FR 64548), EPA approved a revision to the Parkersburg maintenance plan mobile budget.

On May 14, 2007 (72 FR 27060), EPA redesignated the Steubenville-Weirton area of West Virginia to attainment for the 8-hour ozone NAAQS. For the Weirton area, the redesignation included approval of an 8-hour ozone maintenance plan, which identifies on-road MVEBs for VOCs and NOX, which are ozone precursors, which are then used for transportation planning and conformity purposes.

On May 15, 2007 (72 FR 27247), EPA redesignated the Wheeling area of West Virginia to attainment for the 8-hour ozone NAAQS. For the Wheeling area, the redesignation included approval of an 8-hour ozone maintenance plan, which identifies on-road MVEBs for VOCs and NOX, which are ozone precursors, which are then used for transportation planning and conformity purposes.

For all five of the nonattainment areas, the MVEBs are being revised to account for the new EPA emissions model called Motor Vehicle Emissions Simulator (MOVES) which by March 3, 2012 must be used for all new transportation conformity determinations which occur after that date. During early testing, it was found that mobile vehicle emissions using MOVES were predicted to be higher now than when using the older EPA model MOBILE6. The MOBILE6 emissions model was utilized in developing the MVEBs contained in the approved maintenance plan for each area. To account for this anticipated increase in predicted mobile emissions, West Virginia has revised its existing MVEBs in each area using available safety margins which is allowable.

II. Summary of West Virginia's SIP Revision and EPA's Review

On March 14, 2011, the State of West Virginia submitted to EPA a formal revision to its SIP. The SIP revision proposes new MVEBs for the Charleston, Huntington, Parkersburg, Weirton, and Wheeling 8-hour ozone maintenance areas, to reflect the reallocation of a portion of the differences (safety margins) between the total base year and total projected 2009 and 2018 8-hour ozone maintenance emissions, which produces an increase in the MVEBs. The base year is 2004 for all the 8 hour ozone maintenance areas. By increasing the MVEBs, the West Virginia Department of Environmental Protection (WVDEP) is ensuring that transportation conformity can be demonstrated in all 8-hour ozone maintenance areas. The March 14, 2011 submittal, while increasing the MVEBs, still ensures maintenance of the NAAQS for ozone for all of the Charleston, Huntington, Parkersburg, Weirton, and Wheeling 8-hour ozone maintenance areas.

Tables 1 and 2 describe the basis of the new revised MVEBs for the Charleston area.

Table 1—Charleston Area Reallocation of Safety Margin to the MVEBs
| 2004 Base year | 2009 Projection | 2018 Projection
Current Total Emissions in the Approved Maintenance Plan (Tons/Day)
VOC | 16.1 | 12.9 | 7.5
NOX | 26.4 | 22.9 | 9.5
Revised Total Emissions in the Revised Maintenance Plan (Tons/Day)
VOC | 16.1 | 16.7 | 13.7
NOX | 26.4 | 38.9 | 17.1

Table 2—Charleston Area Total Emissions (Point, Area and Mobile) Before and After Reallocation of Safety Margin to the MVEBs
| 2004 Base year | 2009 Projection | 2018 Projection
Current Total Emissions in the Approved Maintenance Plan (Tons/Day)
VOC | 52.3 | 48.1 | 45.4
NOX | 129.4 | 105.5 | 81.9
Revised Total Emissions in the Revised Maintenance Plan (Tons/Day)
VOC | 52.3 | 51.9 | 51.6
NOX | 129.4 | 121.5 | 89.5

For the Charleston, West Virginia 8-hour ozone maintenance area addressed herein, the WVDEP increased the 2009 and 2018 MVEBs using available safety margins to allow for projected increases in emissions as predicted by the MOVES model. The 2009 and 2018 MVEBs for VOCs and NOX emissions in the revised Maintenance Plan listed above in Table 1 under the Revised Total Emissions in the Revised Maintenance Plan section will serve as the new MVEBs for transportation conformity planning.

The State has proposed reallocating some of the emissions from the current safety margin into the MVEBs for both VOCs and NOX. The remaining surplus emissions have been reserved as residual safety margins in the total maintenance budgets to ensure continued maintenance of the 8-hour ozone NAAQS.

To explain how the safety margins are determined and allocated for all the nonattainment areas, the NOX emissions for the Charleston area may be used as an example. In Table 2, listed under the Revised Total Emissions in the Revised Maintenance Plan heading, the total 2004 base year NOX emissions are 129.4 tons/day (tpd) for all NOX sources, which is the maximum amount of NOX emissions consistent with maintenance of the 8-hour ozone NAAQS. The projected total 2009 emissions for all NOX sources would be 121.5 tpd, which still provides a 7.9 tpd NOX safety margin (i.e., the ozone NAAQS would continue to be maintained if total NOX emissions increased as much as 7.9 tpd above the projected 2009 emissions of 121.5 tpd). Therefore, the total projetced emissions for 2009 for all NOX sources would be increased by 16.0 tpd above the currently approved emissions through the increase in the allowable mobile emissions for NOX while still leaving a safety margin of 7.9 tpd. Therefore, even with the reallocation of some of the current safety margin into the MVEBs, the State of West Virginia has left a safety margin for any other unforseen growth in NOX emissions. For all remaining areas, the principles for reallocating the safety margins to the MVEBs have the same impact.

For the Huntington area, Tables 3 and 4 describe the basis of the new revised MVEBs and the overall emissions for the area.

Table 3—Huntington Area Reallocation of Safety Margin to the MVEBs
| 2004 Base year | 2009 Projection | 2018 Projection
Current Total Emissions in the Approved Maintenance Plan (Tons/Day)
VOC | 6.0 | 4.6 | 3.0
NOX | 11.5 | 8.7 | 4.1
Revised Total Emissions in the Revised Maintenance Plan (Tons/Day)
VOC | 6.0 | 7.4 | 6.6
NOX | 11.5 | 14.0 | 13.5

Table 4—Huntington Area Total Emissions (Point, Area and Mobile) Before and After Reallocation of Safety Margin to the MVEBs
| 2004 Base year | 2009 Projection | 2018 Projection
Current Total Emissions in the Approved Maintenance Plan (Tons/Day)
VOC | 23.7 | 23.4 | 23.3
NOX | 37.4 | 31.5 | 27.0
Revised Total Emissions in the Revised Maintenance Plan (Tons/Day)
VOC | 23.7 | 23.4 | 23.3
NOX | 37.4 | 36.8 | 36.4

For the Parkersburg area, Tables 5 and 6 describe the basis of the new revised MVEBs and the overall emissions for the area.

Table 5—Parkersburg Area Reallocation of Safety Margin to the MVEBs
| 2004 Base year | 2009 Projection | 2018 Projection
Current Total Emissions in the Approved Maintenance Plan (Tons/Day)
VOC | 4.0 | 3.8 | 2.4
NOX | 5.66 | 5.5 | 2.7
Revised Total Emissions in the Revised Maintenance Plan (Tons/Day)
VOC | 4.0 | 5.5 | 4.7
NOX | 5.66 | 7.3 | 7.3

Table 6—Parkersburg Area Total Emissions (Point, Area and Mobile) Before and After Reallocation of Safety Margin to the MVEBs
| 2004 Base year | 2009 Projection | 2018 Projection
Current Total Emissions in the Approved Maintenance Plan (Tons/Day)
VOC | 16.7 | 14.8 | 14.1
NOX | 15.2 | 13.2 | 10.1
Revised Total Emissions in the Revised Maintenance Plan (Tons/Day)
VOC | 16.7 | 16.5 | 16.4
NOX | 15.2 | 15.0 | 14.7

For the Weirton area, Tables 7 and 8 describe the basis of the new revised MVEBs and the overall emissions for the area.

Table 7—Weirton Area Reallocation of Safety Margin to the MVEBs
| 2004 Base year | 2009 Projection | 2018 Projection
Current Total Emissions in the Approved Maintenance Plan (Tons/Day)
VOC | 2.6 | 2.0 | 1.0
NOX | 3.6 | 2.8 | 1.2
Revised Total Emissions in the Revised Maintenance Plan (Tons/Day)
VOC | 2.6 | 3.4 | 1.9
NOX | 3.6 | 4.2 | 3.9

Table 8—Weirton Area Total Emissions (Point, Area and Mobile) Before and After Reallocation of Safety Margin to the MVEBs
| 2004 Base year | 2009 Projection | 2018 Projection
Current Total Emissions in the Approved Maintenance Plan (Tons/Day)
VOC | 13.5 | 12.0 | 12.5
NOX | 18.2 | 16.6 | 15.2
Revised Total Emissions in the Revised Maintenance Plan (Tons/Day)
VOC | 13.5 | 13.4 | 13.4
NOX | 18.2 | 18.0 | 17.9

For the Wheeling area, Tables 9 and 10 describe the basis of the new revised MVEBs and the overall emissions for the area.

Table 9—Wheeling Area Reallocation of Safety Margin to the MVEBs
| 2004 Base year | 2009 Projection | 2018 Projection
Current Total Emissions in the Approved Maintenance Plan (Tons/Day)
VOC | 2.8 | 2.5 | 1.4
NOX | 4.7 | 4.3 | 1.7
Revised Total Emissions in the Revised Maintenance Plan (Tons/Day)
VOC | 2.8 | 10.4 | 9.1
NOX | 4.7 | 7.7 | 3.1

Table 10—Wheeling Area Total Emissions (Point, Area and Mobile) Before and After Reallocation of Safety Margin to the MVEBs
| 2004 Base year | 2009 Projection | 2018 Projection
Current Total Emissions in the Approved Maintenance Plan (Tons/Day)
VOC | 23.5 | 14.7 | 14.9
NOX | 101.2 | 72.9 | 34.5
Revised Total Emissions in the Revised Maintenance Plan (Tons/Day)
VOC | 23.5 | 22.6 | 22.6
NOX | 101.2 | 76.3 | 35.9

III. Final Action

EPA is approving West Virginia's SIP revision submitted on March 14, 2011, which amends the 8-hour ozone maintenance plans for the Charleston, Huntington, Parkersburg, Weirton, and Wheeling 8-hour ozone maintenance areas. These revisions amend the maintenance plans' 2009 and 2018 MVEBs to reflect the reallocation of a portion of the plans' safety margins which results in an increase in the MVEBs. EPA is approving this SIP revision to the maintenance plans for these areas because this revision continues to demonstrate maintenance of the 8-hour ozone NAAQS. EPA is publishing this rule without prior proposal because the Agency views this as a noncontroversial amendment and anticipates no adverse comment, since no significant adverse comments were received on the SIP revision at the State level. However, in the Proposed Rules section of today's Federal Register, EPA is publishing a separate document that will serve as the proposal to approve the SIP revision if adverse comments are filed. This rule will be effective on November 14, 2011 without further notice unless EPA receives adverse comment by October 17, 2011.

If EPA receives adverse comment, EPA will publish a timely withdrawal in the Federal Register informing the public that the rule will not take effect. EPA will address all public comments in a subsequent final rule based on the proposed rule. EPA will not institute a second comment period on this action. Any parties interested in commenting must do so at this time. Please note that if EPA receives adverse comment on an amendment, paragraph, or section of this rule and if that provision may be severed from the remainder of the rule, EPA may adopt as final those provisions of the rule that are not the subject of an adverse comment.

IV. Statutory and Executive Order Reviews

A. General Requirements

Under the CAA, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the state, and EPA notes that it will not impose substantial direct costs on tribal governments or preempt tribal law.

B. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

C. Petitions for Judicial Review

Under section 307(b)(1) of the CAA, petitions for judicial review of this action must be filed in the United States Court of Appeals for the appropriate circuit by November 14, 2011. Filing a petition for reconsideration by the Administrator of this final rule does not affect the finality of this action for the purposes of judicial review nor does it extend the time within which a petition for judicial review may be filed, and shall not postpone the effectiveness of such rule or action. Parties with objections to this direct final rule are encouraged to file a comment in response to the parallel notice of proposed rulemaking for this action published in the proposed rules section of today's Federal Register, rather than file an immediate petition for judicial review of this direct final rule, so that EPA can withdraw this direct final rule and address the comment in the proposed rulemaking.

This action to approve the West Virginia 8 hour ozone maintenance plan revisions may not be challenged later in proceedings to enforce its requirements. (See section 307(b)(2).)

List of Subjects in 40 CFR Part 52

Environmental protection, Air pollution control, Incorporation by reference, Nitrogen dioxide, Ozone, Reporting and recordkeeping requirements, Volatile organic compounds.

Dated: August 29, 2011.
W.C. Early,
Acting Regional Administrator, Region III.

40 CFR Part 52 is amended as follows:

PART 52—[AMENDED]

1. The authority citation for part 52 continues to read as follows:

Authority: 42 U.S.C. 7401 et seq.

Subpart XX—West Virginia

2. In § 52.2520, the table in paragraph (e) is amended by revising the entries for 8-Hour Ozone Maintenance Plan for the Huntington-Ashland, WV-KY Area, 8-Hour Ozone Maintenance Plan for the Parkersburg-Marietta, WV-OH Area, 8-Hour Ozone Maintenance Plan for the Steubenville-Weirton, OH-WV Area, 8-Hour Ozone Maintenance Plan for the Wheeling, WV-OH Area, and 8-Hour Ozone Maintenance Plan for the Charleston, WV Area. The amendments read as follows:

§ 52.2520 Identification of plan.

* * * * *

(e) EPA-approved nonregulatory and quasi-regulatory material.

Name of non-regulatory SIP revision | Applicable geographic area | State submittal date | EPA approval date | Additional explanation
* * * * * * *
8-Hour Ozone Maintenance Plan for the Huntington-Ashland, WV-KYArea | Cabell and Wayne Counties | 5/17/06 | 9/15/06, 71 FR 54421
|  | 3/14/11 | 9/15/11 [Insert page number where the document begins] | Revised MVEB's for 2009 and 2018 (VOC and NOX). See § 52.2527.
8-Hour Ozone Maintenance Plan for the Parkersburg-Marietta, WV-OH Area | Wood County | 9/8/06 | 5/8/07, 72 FR 2967 | SIP effective date: 6/7/07.
|  | 3/14/11 | 9/15/11 [Insert page number where the document begins] | Revised MVEB's for 2009 and 2018 (VOC and NOX). See § 52.2527.
8-Hour Ozone Maintenance Plan for the Steubenville-Weirton, OH-WV Area | Brooke and Hancock Counties | 8/3/06 | 5/14/07, 72 FR 27063 | SIP effective date: 6/13/07.
|  | 3/14/11 | 9/15/11 [Insert page number where the document begins] | Revised MVEB's for 2009 and 2018 (VOC and NOX). See § 52.2527.
8-Hour Ozone Maintenance Plan for the Wheeling, WV-OH Area | Marshall and Ohio County | 7/24/06 | 5/15/07, 72 FR 2724 | SIP effective date: 6/13/07.
|  | 3/14/11 | 9/15/11 [Insert page number where the document begins] | Revised MVEB's for 2009 and 2018 (VOC and NOX). See § 52.2527.
* * * * * * *
8-Hour Ozone Maintenance Plan for the Charleston, WV Area | Charleston Area (Kanawha and Putnam Counties) | 11/30/05 | 7/11/06, 71 FR 39001 | Action includes approval of the following motor vehicle emission budgets (MVEB): 8.2 tons per day (tpd) for NOX and 7.2 tpd for VOC.
|  | 1/8/07 | 1/14/08, 73 FR 2156 | Action includes approval of new MVEBs.
|  | 3/14/11 | 9/15/11 [Insert page number where the document begins] | Revised MVEB's for 2009 and 2018 (VOC and NOX). See § 52.2527.
* * * * * * *

3. Section 52.2532 is added to read as follows:

§ 52.2532 Motor vehicle emissions budgets.

(a) EPA approves the following revised 2009 and 2018 motor vehicle emissions budgets (MVEBs) for the Charleston, West Virginia 8-hour ozone maintenance area submitted by the Secretary of the Department of Environmental Protection on March 14, 2011:

Applicable geographic area | Year | Tons per day (TPD) VOC | Tons per day (TPD) NOX
Charleston Area (Kanawha and Putnam Counties) | 2009 | 7.4 | 14.0
Charleston Area (Kanawha and Putnam Counties) | 2018 | 6.6 | 13.5

(b) EPA approves the following revised 2009 and 2018 motor vehicle emissions budgets (MVEBs) for the Huntington, West Virginia 8-hour ozone maintenance area submitted by the Secretary of the Department of Environmental Protection on March 14, 2011:

Applicable geographic area | Year | Tons per day (TPD) VOC | Tons per day (TPD) NOX
Huntington Area (Cabell and Wayne Counties) | 2009 | 7.4 | 14.0
Huntington Area (Cabell and Wayne Counties) | 2018 | 6.6 | 13.5

(c) EPA approves the following revised 2009 and 2018 motor vehicle emissions budgets (MVEBs) for the Parkersburg, West Virginia 8-hour ozone maintenance area submitted by the Secretary of the Department of Environmental Protection on March 14, 2011:

Applicable geographic area | Year | Tons per day (TPD) VOC | Tons per day (TPD) NOX
Parkersburg Area (Wood County) | 2009 | 5.5 | 7.3
Parkersburg Area (Wood County) | 2018 | 4.7 | 7.3

(d) EPA approves the following revised 2009 and 2018 motor vehicle emissions budgets (MVEBs) for the Weirton, West Virginia 8-hour ozone maintenance area submitted by the Secretary of the Department of Environmental Protection on March 14, 2011:

Applicable geographic area | Year | Tons per day (TPD) VOC | Tons per day (TPD) NOX
Weirton Area (Brooke and Hancock Counties) | 2009 | 3.4 | 4.2
Weirton Area (Brooke and Hancock Counties) | 2018 | 1.9 | 3.9

(e) EPA approves the following revised 2009 and 2018 motor vehicle emissions budgets (MVEBs) for the Wheeling, West Virginia 8-hour ozone maintenance area submitted by the Secretary of the Department of Environmental Protection on March 14, 2011:

Applicable geographic area | Year | Tons per day (TPD) VOC | Tons per day (TPD) NOX
Wheeling Area (Marshall and Ohio Counties) | 2009 | 7.4 | 14.0
Wheeling Area (Marshall and Ohio Counties) | 2018 | 6.6 | 13.5

[FR Doc. 2011-23261 Filed 9-14-11; 8:45 am]

BILLING CODE 6560-50-P